DEPARTMENT OF HEALTH AND HUMAN SERVICES

Centers for Disease Control and Prevention

[30Day-10-08BN]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Voluntary Product Satisfaction and Usability Assessment—New—National Center for Injury Prevention and Control, Centers for Disease Control and Prevention (CDC).

Background and Brief Description

Executive Order 12862 directs Federal agencies that provide services directly to the public to survey customers to determine the kind and quality of services they need and their level of satisfaction with existing services.

CDC releases a number of new products each year to its customers, a diverse group that includes health care providers, researchers, public health practitioners, policy makers, and the general public. The term product is broadly defined to include publications, Web pages, podcasts, e-cards, CD-ROMs, and videos. At present, there is no mechanism for evaluating whether these products are meeting customer needs.

CDC is requesting a 3-year generic clearance in order to better evaluate its products. Obtaining feedback from customers on a regular, on-going basis will help ensure that customers find CDC products to be useful. This type of evaluation will allow CDC to maximize the impact of its products which will ultimately benefit the public's health. The estimate of annual burden was based on approximately 20 new products being released by CDC/NCIPC each year. This number is consistent with the number of products released annually over the last 5 years. Approximately 2500 hard copies of each product are distributed to customers annually. Each product is disseminated electronically (via e-mail) to 3000 customers each year. Finally, product Web sites receive approximately 1800 hits a month or 21,600 hits a year.

There is no cost to the respondents other than their time. The total estimated burden hours are 90,333.

Estimated Annualized Burden Hours
Types of respondents | Types of form | Number of respondents | Number of responses per respondent | Average burden per response (in hours)
Public | Response cards | 50,000 | 1 | 10/60
| E-mail Assessments | 60,000 | 1 | 10/60
| Web-Based Assessments | 432,000 | 1 | 10/60

Dated: December 1, 2009.
Maryam Daneshvar,
Acting Reports Clearance Officer, Centers for Disease Control and Prevention.

[FR Doc. E9-29106 Filed 12-4-09; 8:45 am]

BILLING CODE 4163-18-P